DEPARTMENT OF TRANSPORTATION

Federal Aviation Administration

Ninety Eighth RTCA SC-159 Navigation Equipment Using the Global Positioning System Plenary

AGENCY: Federal Aviation Administration (FAA), U.S. Department of Transportation (DOT).

ACTION: Ninety Eighth RTCA SC-159 Navigation Equipment Using the Global Positioning System Plenary.

SUMMARY: The FAA is issuing this notice to advise the public of a meeting of Ninety Eighth RTCA SC-159 Navigation Equipment Using the Global Positioning System Plenary.

DATES: The meeting will be held May 11, 2017, 09:00 a.m.-12:00 p.m.

ADDRESSES: The meeting will be held at: RTCA Headquarters, 1150 18th Street NW., Suite 910, Washington, DC 20036. Virtual participation is also allowed.

FOR FURTHER INFORMATION CONTACT: Rebecca Morrison at rmorrison@rtca.org or 202-330-0654, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Ninety Eighth RTCA SC-159 Navigation Equipment Using the Global Positioning System Plenary. The agenda will include the following:

Thursday May 11, 2017, 9:00 a.m.-12:00 p.m.

1. Introductory Remarks: Co-chairs, RTCA and DFO Statement

2. Review and Approve Previous Meeting Summaries

a. Ninety-Sixth Meeting held October, 2016, RTCA Paper No. 028-17/SC159-1057

b. Ninety-Seventh Meeting held December, 2016, RTCA Paper No. 029-17/SC159-1058

3. Final Review and Comment (FRAC) consideration for document approval (a, b, d) or to open new FRAC (c, e)

a. DO-253C (LAAS MOPS)

b. DO-246D (LAAS ICD)

c. DO-235C (Radio Frequency Interference)

d. GPS/GLONASS L1 MOPS

e. L1/L5 antenna MOPS

4. Action Item Review

5. Other Business

6. Date and Place of Next Meeting

7. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on May 2, 2017.
Mohannad Dawoud,
Management & Program Analyst, Partnership Contracts Branch, ANG-A17, NextGen, Procurement Services Division, Federal Aviation Administration.

[FR Doc. 2017-09125 Filed 5-4-17; 8:45 am]

BILLING CODE 4910-13-P